DEPARTMENT OF COMMERCE

International Trade Administration

[A-588-702]

Notice of Initiation of Changed Circumstances Antidumping Duty Administrative Review: Certain Stainless Steel Butt-Weld Pipe and Tube Fittings From Japan

AGENCY: Import Administration, International Trade Administration, Department of Commerce.

ACTION: Notice of Initiation of Changed Circumstances Antidumping Duty Administrative Review.

SUMMARY: In accordance with 19 CFR 351.216 of the Department of Commerce (the Department) regulations, Benex Corporation (Benex) requested a changed circumstances administrative review pursuant to section 751(b) of the Tariff Act of 1930, as amended (the Act).

The Department finds, in response to this request, that it contains information sufficient to warrant initiating a changed circumstances review on stainless steel butt-weld pipe and tube fittings (SSPFs) from Japan.

EFFECTIVE DATE : June 10, 2002.

FOR FURTHER INFORMATION CONTACT: Jack K. Dulberger or Tom Futtner, AD/CVD Enforcement, Group II, Office 4, Import Administration, International Trade Administration, U.S. Department of Commerce, 14th and Constitution Avenue, N.W., Washington, D.C. 20230; telephone: (202) 482-5505 or (202) 482-3814, respectively.

SUPPLEMENTARY INFORMATION:

Applicable Statute and Regulations

Unless otherwise stated, all citations to the Tariff Act of 1930, as amended, are references to the provisions as of January 1, 1995, the effective date of the amendments made to the Act by the Uruguay Round Agreements Act (URAA). In addition, unless otherwise indicated, all references to the regulations of the Department are to 19 CFR Part 351 (2001).

Background

On March 25, 1988, the Department published in the Federal Register the antidumping order on SSPFs from Japan. See Antidumping Duty Order of Sales at Less Than Fair Value; Stainless Steel Butt-Weld Pipe and Tube Fittings from Japan 53 FR 9787. On April 19, 2002, Benex submitted a letter stating that on November 16, 2001, it had acquired the SSPFs business of Benkan Corporation (Benkan), which had filed for bankruptcy in October 2000. Benex further stated that it purchased Benkan's manufacturing facilities (in Yuki City and Kiryu City, Japan) and materials inventory. Benex stated that it had no previous experience in the SSPFs business, and had been formed by Japanese investors for the specific purpose of bringing Benkan out of bankruptcy and turning around its SSPFs operations. Benex stated that, in view of the foregoing, it is the successor-in-interest to Benkan and, as such, Benex is entitled to receive the same antidumping treatment as is accorded Benkan. In its April 19, 2002 letter, Benex also requested that the Department conduct an expedited changed circumstances review, pursuant to 19 CFR 351.216(e).

Scope of Review

The products covered by this review include certain stainless steel butt-weld pipe and tube fittings, or SSPFs. These fittings are used in piping systems for chemical plants, pharmaceutical plants, food processing facilities, waste treatment facilities, semiconductor equipment applications, nuclear power plants and other areas. This merchandise is currently classifiable under the Harmonized Tariff Schedules (HTS) item number 7307.23.0000. While the HTS item number is provided for convenience and for Customs purposes, the written product description remains dispositive as to the scope of the product coverage.

Initiation of Changed Circumstances Antidumping Duty Review

At the request of Benex, and in accordance with section 751(b) of the Act and 19 CFR 351.216 of the Department's regulations, the Department is initiating a changed circumstances review of SSPFs from Japan to determine whether Benex is the successor-in-interest to Benkan for purposes of ascertaining antidumping duty liability in this proceeding. In making such a successor-in-interest determination, the Department typically examines several factors including, but not limited to, changes in: (1) management; (2) production facilities; (3) supplier relationships; and (4) customer base. See Brass Sheet and Strip from Canada: Notice of Final Results of Antidumping Administrative Review, 57 FR 20460, 20462 (May 13, 1992) (Canadian Brass). While no single factor or combination of factors will necessarily be dispositive, the Department generally will consider the new company to be the successor to the previous company if its resulting operation is essentially similar to that of its predecessor. See, e.g., Industrial Phosphoric Acid from Israel: Final Results of Changed Circumstances Review, 59 FR 6944, 6945 (February 14, 1994) and Canadian Brass, 57 FR 20460. Thus, if the record evidence demonstrates that, with respect to the production and sale of the subject merchandise, the new company operates as the same business entity as the former company, the Department may assign the new company the cash deposit rate of its predecessor. See, e.g., Fresh and Chilled Atlantic Salmon from Norway: Final Results of Changes Circumstances Antidumping Duty Administrative Review, 64 FR 9979, 9980 (March 1, 1999). Additionally, in the event that the Department concludes that expedited action is warranted, 19 CFR 351.221(c)(3)(ii) permits the Department to combine the notices of initiation and preliminary results.

The Department concludes that it would be inappropriate to expedite this action pursuant to 19 CFR 351.221(c)(3)(ii) by issuing a preliminary determination prior to conducting an investigation in the instant case. The Department has reviewed the information contained in Benex's April 19, 2002, letter and requires further information regarding successor-in-interest factors including management (e.g., document translations), production (e.g., details of various facilities), suppliers (e.g., clarifications as to suppliers), and customer base (e.g., clarifications as to sales channels). The Department's need for additional information, which we will address in a future information request to Benex, makes expedited action impracticable and, therefore, the Department is not issuing preliminary results of its changed circumstances antidumping duty administrative review at this time.

The Department will publish in the Federal Register a notice of preliminary results of antidumping duty changed circumstances review, in accordance with 19 CFR 351.221(b)(4) and 351.221(c)(3)(i), which will set forth the factual and legal conclusions upon which our preliminary results are based and a description of any action proposed based on those results. Pursuant to 351.221(b)(4), interested parties will have an opportunity to comment. The Department will issue its final results of review not later than 270 days after publication of this notice of initiation. All written comments must be submitted to the Department and served on all interested parties on the Department's service list in accordance with 19 CFR 351.303.

During the course of this changed circumstances review, we will not change any cash deposit instructions on the merchandise subject to this changed circumstances review, unless a change is determined to be warranted pursuant to the final results of this review.

This initiation of review notice is in accordance with sections 751(b) and 777(i)(1) of the Act and 19 CFR 351.221(c)(3).

Dated: June 3, 2002
Faryar Shirzad,
Assistant Secretary for Import Administration.

[FR Doc. 02-14514 Filed 6-7-02; 8:45 am]

BILLING CODE 3510-DS-S